DEPARTMENT OF TRANSPORTATION

Federal Aviation Administration

14 CFR Part 71

[Docket No. FAA-2018-0246; Airspace Docket No. 18-ASW-6]

RIN 2120-AA66

Revocation of Class D and E Airspace; Fort Sill; and Amendment of Class D and E Airspace; Lawton, OK

AGENCY: Federal Aviation Administration (FAA), DOT.

ACTION: Final rule.

SUMMARY: This action removes Class D airspace, Class E airspace designated as a surface area, and Class E airspace designated as an extension to a Class D and Class E airspace at Henry Post Army Air Field (AAF), Fort Sill, OK; amends Class D airspace and Class E airspace designated as a surface area at Lawton-Fort Sill Regional Airport, Lawton, OK; and amends Class E airspace extending upward from 700 feet above the surface at Lawton-Fort Sill Regional Airport and Henry Post AAF. This action is due to the closure of the air traffic control tower (ATCT) at Henry Post AAF. The name of Lawton-Fort Sill Regional Airport and the geographic coordinates of Henry Post AAF are also being updated to coincide with the FAA's aeronautical database, and the outdated term “Airport/Facility Directory” is replaced with the term “Chart Supplement.”

DATES: Effective 0901 UTC, February 28, 2019. The Director of the Federal Register approves this incorporation by reference action under Title 1 Code of Federal Regulations part 51, subject to the annual revision of FAA Order 7400.11 and publication of conforming amendments.

ADDRESSES: FAA Order 7400.11C, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11C at NARA, call (202) 741-6030, or go to https://www.archives.gov/federal-register/cfr/ibr-locations.html.

FAA Order 7400.11, Airspace Designations and Reporting Points, is published yearly and effective on September 15.

FOR FURTHER INFORMATION, CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it removes Class D airspace, Class E airspace designated as a surface area, and Class E airspace designated as an extension to a Class D and Class E airspace at Henry Post AAF, Fort Sill, OK; amends Class D airspace and Class E airspace designated as a surface area at Lawton-Fort Sill Regional Airport, Lawton, OK; and amends Class E airspace extending upward from 700 feet above the surface at Lawton-Fort Sill Regional Airport and Henry Post AAF to support instrument flight rule operations at these airports.

History

The FAA published a notice of proposed rulemaking (NPRM) in the Federal Register (83 FR 22889; May 17, 2018) for Docket No. FAA-2018-0246 to remove Class D airspace, Class E airspace designated as a surface area, and Class E airspace designated as an extension to a Class D and Class E airspace at Henry Post AAF, Fort Sill, OK; amend Class D airspace and Class E airspace designated as a surface area at Lawton-Fort Sill Regional Airport, Lawton, OK; and amend Class E airspace extending upward from 700 feet above the surface at Lawton-Fort Sill Regional Airport and Henry Post AAF. Interested parties were invited to participate in this rulemaking effort by submitting written comments on the proposal to the FAA. No comments were received.

Subsequent to publication, the FAA found a typographic error in the in the airspace legal description for the Class E airspace extending upward from 700 feet above the surface at Lawton-Fort Sill Regional Airport, Lawton, OK. The extension to the south from the Lawton VOR/DME was incorrectly stated from the 6.9-mile radius, instead of the 6.8-mile radius, and is corrected in this rule.

Class D and E airspace designations are published in paragraphs 5000, 6002, 6004, and 6005, respectively, of FAA Order 7400.11C, dated August 13, 2018, and effective September 15, 2018, which is incorporated by reference in 14 CFR 71.1. The Class D and E airspace designations listed in this document will be published subsequently in the Order.

Availability and Summary of Documents for Incorporation by Reference

This document amends FAA Order 7400.11C, Airspace Designations and Reporting Points, dated August 13, 2018, and effective September 15, 2018. FAA Order 7400.11C is publicly available as listed in the ADDRESSES section of this document. FAA Order 7400.11C lists Class A, B, C, D, and E airspace areas, air traffic service routes, and reporting points.

The Rule

This rule amends Title 14 Code of Federal Regulations (14 CFR) part 71 by:

Removing Class D airspace at Henry Post AAF, Fort Sill, OK;

Amending Class D airspace at Lawton-Fort Sill Regional Airport (formerly Lawton Municipal Airport), Lawton, OK, by adding an extension 1.1 miles each side of the 167° radial of the Lawton VOR/DME extending from the 4.3-mile radius to 5.3 miles south of the airport; amending the exclusionary language from “that airspace north of a line between lat. 34°36′18″ N, long. 98°20′33″ W and lat. 34°37′16″ N, long. 98°28′29″ W to “that airspace within a 2-mile radius of Henry Post AAF”; updating the name of the airport to coincide with the FAA's aeronautical database; and making an editorial change to the legal description replacing “Airport/Facility Directory” with “Chart Supplement”;

Removing Class E airspace designated as a surface area at Henry Post AAF;

Amending Class E airspace designated as a surface area at Lawton-Fort Sill Regional Airport by adding an extension 1.1 miles each side of the 167° radial of the Lawton VOR/DME extending from the 4.3-mile radius to 5.3 miles south of the airport; removing that area within a 4-mile radius of Henry Post AAF from the airspace legal description; amending the exclusionary language from “within Restricted Areas R5601A and R-5601B when these restricted areas are activated” to “that airspace within a 2-mile radius of Henry Post AAF”; updating the name of the Lawton-Fort Sill Airport (formerly Lawton Municipal Airport), and the geographic coordinates of Henry Post AAF to coincide with the FAA's aeronautical database; removing the city name associated with Henry Post AAF to comply with FAA Order 7400.2L, Procedures for Handling Airspace Matters; and making an editorial change to the legal description replacing “Airport/Facility Directory” with “Chart Supplement”;

Removing Class E airspace designated as an extension of Class D and Class E airspace at Henry Post AAF; and

Amending Class E airspace extending upward from 700 feet above the surface at Lawton-Fort Sill Regional Airport and Henry Post AAF by amending the extension to the south of Lawton-Fort Sill Regional Airport from the 167° (previously 178°) radial from the Lawton VOR/DME extending from the 6.8-mile radius to 13.1 (decreased from 20.6) miles south of the Lawton-Fort Sill Regional Airport; removing the extension from the 358° radial from Lawton VOR/DME; removing the extension to the north of Henry Post AAF referencing the 003° radial from the Lawton VOR/DME; adding an extension 4 miles each side of the 360° bearing from the Henry Post AAF from the 6.5-mile radius of Henry Post AAF to 10.9 miles north of Henry Post AAF; amending the exclusionary language pertaining to restricted areas from “R-5601A and R-5601B when these restricted areas are activated” to “R-5601A, R-5601B and R-5601H when active”; removing the exclusionary language “and excluding that airspace within the Wichita Falls, TX, Class E airspace area” from the airspace legal description; and updating the name of Lawton-Fort Sill Regional (formerly Lawton Municipal Airport) and the geographic coordinates of Henry Post AAF to coincide with the FAA's aeronautical database.

The typographical error in the airspace legal description for the Class E airspace extending upward from 700 feet above the surface at Lawton-Ft. Sill Regional Airport, Lawton, OK, is corrected as follows: The extension to the south from the Lawtwon VOR/DME is corrected to extend from a “6.8-mile radius” instead of a “6.9-mile radius.” Except for this change, this rule is the same as published in the NPRM.

This action is due to the closure of the ATCT at Henry Post AAF and to remove the associated airspace.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11B, Airspace Designations and Reporting Points, dated August 3, 2017, and effective September 15, 2017, is amended as follows:

Paragraph 5000 Class D Airspace.

* * * * *

ASW OK D Fort Sill, OK [Removed]

ASW OK D Lawton, OK [Amended]

Lawton-Fort Sill Regional Airport, OK

(Lat. 34°34′04″ N, long. 98°25′00″ W)

Lawton VOR/DME

(Lat. 34°29′46″ N, long. 98°24′47″ W)

Henry Post AAF

(Lat. 34°38′59″ N, long. 98°24′08″ W)

That airspace extending upward from the surface to and including 3,700 feet MSL within a 4.3-mile radius of Lawton-Fort Sill Regional Airport, and within 1.1 miles each side of the 167° radial from the Lawton VOR/DME extending from the 4.3-mile radius to 5.3 miles south of the airport, excluding that airspace within a 2-mile radius of Henry Post AAF. This Class D airspace area is effective during the specific dates and times established in advance by a Notice to Airmen. The effective date and time will thereafter be continuously published in the Chart Supplement.

Paragraph 6002 Class E Airspace Areas Designated as Surface Areas.

* * * * *

ASW OK E2 Fort Sill, OK [Removed]

* * * * *

ASW OK E2 Lawton, OK [Amended]

Lawton-Fort Sill Regional Airport, OK

(Lat. 34°34′04″ N, long. 98°25′00″ W)

Lawton VOR/DME

(Lat. 34°29′46″ N, long. 98°24′47″ W)

Henry Post AAF

(Lat. 34°38′59″ N, long. 98°24′08″ W)

That airspace extending upward from the surface to and including 3,700 feet MSL within a 4.3-mile radius of Lawton-Fort Sill Regional Airport, and within 1.1 miles each side of the 167° radial from the Lawton VOR/DME extending from the 4.3-mile radius to 5.3 miles south of the airport, excluding that airspace within a 2-mile radius of Henry Post AAF. This Class E airspace area is effective during the specific dates and times established in advance by a Notice to Airmen. The effective date and time will thereafter be continuously published in the Chart Supplement.

Paragraph 6004 Class E Airspace Designated as an Extension of Class D and Class E Surface Areas.

* * * * *

ASW OK E4 Fort Sill, OK [Removed]

Paragraph 6005 Class E Airspace Areas Extending Upward From 700 Feet or More Above the Surface of the Earth.

* * * * *

ASW OK E5 Lawton, OK [Amended]

Lawton-Fort Sill Regional Airport, OK

(Lat. 34°34′04″ N, long. 98°25′00″ W)

Lawton VOR/DME

(Lat. 34°29′46″ N, long. 98°24′47″ W)

Henry Post AAF

(Lat. 34°38′59″ N, long. 98°24′08″ W)

That airspace extending upward from 700 feet above the surface within a 6.8-mile radius of Lawton-Fort Sill Regional Airport, and within 4 miles each side of the 167° radial from the Lawton VOR/DME extending from the 6.8-mile radius to 13.1 miles south of Lawton-Fort Sill Regional Airport, and within a 6.5-mile radius of Henry Post AAF, and within 4 miles each side of the 360° bearing from Henry Post AAF extending from the 6.5-mile radius to 10.9 miles north of Henry AAF, excluding that airspace within Restricted Areas R-5601A, R-5601B, and R-5601H when active.

Issued in Fort Worth, Texas, on November 8, 2018.
Walter Tweedy,
Acting Manager, Operations Support Group, ATO Central Service Center.

[FR Doc. 2018-25183 Filed 11-19-18; 8:45 am]

BILLING CODE 4910-13-P